DEPARTMENT OF COMMERCE

National Oceanic and Atmospheric Administration

50 CFR Part 635

[Docket No. 191125-0090]

RTID 0648-XT004

Atlantic Highly Migratory Species; 2020 Atlantic Shark Commercial Fishing Year

AGENCY: National Marine Fisheries Service (NMFS), National Oceanic and Atmospheric Administration (NOAA), Commerce.

ACTION: Final rule; fishing season notification.

SUMMARY: This final rule establishes the 2020 opening date for all Atlantic shark fisheries, including the fisheries in the Gulf of Mexico and Caribbean. This final rule also establishes the quotas for the 2020 fishing year based on harvest levels during 2019 and the large coastal shark (LCS) retention limits for directed shark limited access permit holders. NMFS may increase or decrease these retention limits for directed shark limited access permit holders during the year, in accordance with existing regulations, to provide, to the extent practicable, equitable fishing opportunities for commercial shark fishermen in all regions and areas. These actions could affect fishing opportunities for commercial shark fishermen in the northwestern Atlantic Ocean, including the Gulf of Mexico and Caribbean Sea.

DATES: This rule is effective on January 1, 2020. The 2020 Atlantic commercial shark fishing year opening dates and quotas are provided in Table 1 under SUPPLEMENTARY INFORMATION.

ADDRESSES: Atlantic Highly Migratory Species (HMS) Management Division, 1315 East-West Highway, Silver Spring, MD 20910.

FOR FURTHER INFORMATION CONTACT: Guý DuBeck or Karyl Brewster-Geisz at 301-427-8503.

SUPPLEMENTARY INFORMATION:

Background

The Atlantic commercial shark fisheries are managed under the authority of the Magnuson-Stevens Fishery Conservation and Management Act (Magnuson-Stevens Act). The 2006 Consolidated HMS Fishery Management Plan (FMP) and its amendments are implemented by regulations at 50 CFR part 635. For the Atlantic commercial shark fisheries, the 2006 Consolidated HMS FMP and its amendments established, among other things, measures related to commercial shark retention limits, commercial quotas for species and management groups, and accounting for under- and overharvests for the shark fisheries. The FMP also includes adaptive management measures, such as flexibility in establishing opening dates for the fishing season and the ability to make inseason adjustments to shark trip limits, which provide management flexibility in furtherance of equitable fishing opportunities, to the extent practicable, for commercial shark fishermen in all regions and areas.

On September 19, 2019, NMFS published a proposed rule (84 FR 49236), on management measures for the commercial shark fisheries for the 2020 fishing year. The rule proposed opening all Atlantic commercial shark management groups on January 1, 2020, setting initial retention limits for large coastal shark (LCS) retention by directed shark limited access permit holders, and adjusting quotas for the 2020 fishing year based on harvest levels during 2019. The proposed rule contains details about the action that are not repeated here. The comment period on the proposed rule closed on October 10, 2019. NMFS received 18 written and oral comments regarding the proposed opening dates, retention limits, and potential inseason retention limit adjustments as applied to LCS in the Gulf of Mexico and Atlantic regions. Those comments, along with the Agency's responses, are summarized below. After considering all the comments, NMFS is finalizing the rule as proposed, with three changes, discussed below.

NMFS is opening the fishing year for all shark management groups on January 1, 2020, as proposed. In setting the opening date, NMFS considered the “opening commercial fishing season” criteria at § 635.27(b)(3). These criteria include the following factors: Available annual quotas for the current fishing season; estimated season length and average weekly catch rates from previous years; length of the season and fishermen participation in past years; impacts to accomplishing objectives of the 2006 Consolidated HMS FMP and its amendments; temporal variation in behavior or biology of target species (e.g., seasonal distribution or abundance); impact of catch rates in one region on another; and effects of delayed season openings. The rule also establishes a retention limit for directed shark limited access permit holders in the blacktip, aggregated LCS, and hammerhead management groups for the entire Gulf of Mexico region of 45 LCS other than sandbar sharks per vessel per trip, as proposed. NMFS changed the initial retention limit for directed shark limited access permit holders in the aggregated LCS and hammerhead management groups for the Atlantic region from the proposed level of 25 LCS other than sandbar sharks per vessel per trip to 36 LCS other than sandbar sharks per vessel per trip. The retention limit for incidental shark limited access permit holders for all regions has not changed from the proposed rule and remains at 3 LCS other than sandbar sharks per trip and no more than 16 small coastal sharks (SCS) and pelagic sharks, combined, per vessel per trip consistent with § 635.24(a)(3) and (4). Additionally, the retention limit for blacknose sharks for all permit holders in the Atlantic region south of 34°00′ N lat. has not changed from the proposed rule and remains at eight blacknose sharks per trip consistent with § 635.24(a)(4). Blacknose sharks may not be harvested in the Gulf of Mexico region. This rulemaking does not consider changes to the retention limits outside of what is allowed currently by the regulations.

This final rule also adjusts the annual commercial quotas for 2020 based on over- and/or underharvests, calculated after accounting for landings reported by October 18, 2019, consistent with existing regulations. Based on updated landings information as of October 18, 2019, only the adjusted blacktip quota in the Gulf of Mexico region has changed since the proposed rule. All other quotas remain the same as proposed. While this action adjusts certain quotas as allowable, it does not establish or change the annual baseline commercial quotas established under the 2006 Consolidated HMS FMP and its amendments for any shark management group. The baseline quotas were established under previous actions, and any changes to those baseline quotas would be performed through a separate action.

Response to Comments

NMFS received 18 written and oral comments on the proposed rule from fishermen, dealers, and other interested parties. All written comments can be found at http://www.regulations.gov/ by searching for RIN 0648-XT004. All of the comments received are summarized below.

Comment 1: NMFS received comments in support of the proposed opening date of January 1 for the LCS fisheries in the Gulf of Mexico and Atlantic regions.

Response: NMFS will open the LCS fisheries in the Gulf of Mexico and Atlantic regions on January 1, as proposed. NMFS will also open all other shark management groups on January 1, as proposed.

Comment 2: NMFS received several comments regarding the proposed commercial retention limit for the aggregated LCS, hammerhead, and blacktip shark management groups in the eastern and western Gulf of Mexico sub-regions. Some commenters were opposed to the proposed retention limit of 45 LCS other than sandbar sharks per vessel per trip, and noted that NMFS should increase the retention limit to 55 LCS other than sandbar sharks per vessel per trip. Commercial fishermen from the western Gulf of Mexico sub-region preferred the higher retention limit (55 sharks per vessel per trip) to provide equitable fishing opportunities for both Federal and state-water fishermen, while some commercial fishermen from the eastern Gulf of Mexico sub-region also preferred the higher retention limit to more fully utilize quotas, which were underutilized this year. NMFS also received comments from commercial fishermen in the eastern Gulf of Mexico sub-region that they preferred a retention limit of 45 LCS per vessel per trip to ensure a year-round fishery.

Response: After considering public comment, and bearing in mind NMFS's ability to further adjust retention limits inseason, NMFS has determined that starting the season at the default retention limit of 45 LCS other than sandbar sharks per vessel per trip, as proposed, is appropriate and will ensure equitable fishing opportunities in both Gulf of Mexico sub-regions, to the extent practicable. This season, the participation in the Gulf of Mexico LCS fishery was lower than in past years, and the shark management group quotas in both sub-regions remain open to date. In the western Gulf of Mexico sub-region, landings were particularly low this year, which commenters said was due to issues related to selling and transporting shark products across state lines. This reduction in overall landings has resulted in the blacktip, aggregated LCS, and hammerhead shark management groups in the western Gulf of Mexico sub-region remaining open to date, relatively late in the year, which has not occurred in past seasons, and a portion of each quota being transferred to the eastern Gulf of Mexico sub-region (84 FR 48791; September 17, 2019). In the eastern Gulf of Mexico sub-region, fishermen continue to harvest blacktip, aggregated LCS, and hammerhead shark management group quotas. In addition, NMFS understands that the State of Mississippi is considering starting a commercial shark fishery in state waters in 2020. Although NMFS does know at this time how many vessels might participate in this fishery, how many permits could be issued, or what the State regulations will be, associated landings would count against the western Gulf of Mexico sub-regional quotas, creating some additional uncertainty regarding the fishery for 2020. Thus, due to public comment regarding the year-round fishery and the uncertainty about the number of participants in the 2020 fishing season, NMFS has decided to keep the retention limit at the proposed 45 LCS other than sandbar sharks per vessel per trip for the start of the season. If 2020 landing rates are similar to landings rates in 2019, NMFS could consider adjusting the retention limit inseason to maximize quotas.

Comment 3: NMFS received several comments regarding the proposed commercial retention limits and the proposed change to the quota harvest level at which NMFS may consider adjusting the retention limit for the aggregated LCS and hammerhead shark management groups in the Atlantic region. NMFS received comments opposing the proposed retention limit of 25 LCS other than sandbar sharks at the beginning of the year. Instead, commenters stated they would prefer a retention limit of 36 LCS trip limit at the beginning of the year to more fully utilize the available quota. NMFS received comments in support of and opposition to the proposed level of 20 percent of quota harvested at which NMFS may consider adjusting the retention limit. Commenters suggested a variety of percentages that ranged from 20 to 40 percent, and expressed concern that a lower percentage and smaller hammerhead shark quota could limit harvest and increase the likelihood of a closure. If the fishery were to close early, then the overall quota would not be reached, similar to what has happened in recent years.

Response: NMFS will start the season with a commercial retention limit of 36 LCS other than sandbar sharks per vessel per trip. Additionally, NMFS recognizes that the 20 percent of quota harvested at which NMFS may consider adjusting the retention limit used in recent years along with other factors has resulted in the annual quotas in the Atlantic region not being fully utilized in recent years. For example, as of October 18, 2019, only 27 percent of the aggregated LCS and 38 percent of the hammerhead shark quotas have been landed. This means that approximately 73 percent of the aggregated LCS quota remains available and approximately 62 percent of the hammerhead shark quota remains available through December 31, 2019. In order to allow fishermen additional opportunities to fully harvest the aggregated LCS and hammerhead management group quotas, NMFS is implementing a higher retention limit (36 LCS other than sandbar sharks per vessel per trip) at the start of the season and a higher percentage of quota harvested at which NMFS may consider adjusting the retention limit (35 percent). If the quota is landed quickly (e.g., if approximately 35 percent of the quota is caught at the beginning of the year), NMFS anticipates that it would apply the appropriate regulatory criteria to consider an inseason reduction of the retention limit (e.g., to three or fewer LCS other than sandbar sharks per vessel per trip), then consider an increase in the retention limit later in the year, which is a similar process to what has been done in past seasons.

Comment 4: NMFS received comments regarding increasing the retention limit beyond the current threshold of 55 LCS other than sandbar sharks per vessel per trip or converting the retention limit back to pounds per trip. One commenter preferred a retention limit of 100 LCS other than sandbar sharks per vessel per trip, since the quotas are not harvested and shark populations have increased. Another commenter preferred the retention limit be 4,000 pound (lb) dressed weight (dw) per trip, which was the trip limit prior to 2008, to make trips more profitable and reduce discards. Additionally, some commenters would prefer separate retention limits for the Gulf of Mexico blacktip shark management group and hammerhead shark management groups in the Atlantic and Gulf of Mexico, since each management group has separate quotas. Other commenters requested a retention limit for sandbar sharks outside of the shark research fishery due to increased interactions during non-shark research fishery trips in recent years.

Response: These comments are outside the scope of this rulemaking because the purpose of this rulemaking is to set opening dates and commercial retention limits for the 2020 shark season and to adjust quotas for the 2020 shark seasons based on over- and underharvests from the previous years. Pursuant to § 635.24(a)(2), the commercial retention limit for LCS other than sandbar sharks may range between zero and 55 LCS other than sandbar sharks per vessel per trip. Thus, the maximum commercial retention limit is 55 LCS other than sandbar sharks per vessel per trip and a higher limit is not considered in this rulemaking, not was changing the approach to retention limits from numbers of individuals to weight. NMFS may reexamine the upper and lower bounds of the current commercial shark retention limits in a future rulemaking.

Comment 5: NMFS received comments that all quota linkages in the LCS fishery should be removed since such linkages have contributed to the underutilization of quotas.

Response: This comment is outside the scope of this rulemaking because the purpose of this rulemaking is to set opening dates and commercial retention limits for the 2020 shark season and to adjust quotas for the 2020 shark seasons based on over- and underharvests from the previous years. The current LCS quota linkages were implemented in the final rules for Amendment 5a and Amendment 6 to the 2006 Consolidated HMS FMP as part of rebuilding plans for shark species that are overfished in order to reduce mortality of overfished stocks during commercial fishing for other shark species. The issue of removing quota linkages is not being re-considered or re-addressed in this rulemaking.

Comment 6: NMFS received a comment regarding a concern about the increase in shark populations impacting other fisheries and stocks.

Response: This comment is outside the scope of this rulemaking. NMFS is aware of concerns expressed by some fishermen about increasing interactions between LCS in Council-managed and other HMS fisheries, including their concerns about depredation of yellowfin tuna, snapper-grouper, and other coastal migratory pelagic species, gear damage, economic loss, and possible effects on the long-term sustainability and conservation of other fish species. Given revisions to the Magnuson-Stevens Fishery Conservation and Management Act National Standard 1 (NS1) guidelines, NMFS is exploring options related to the implementation of those new guidelines as they relate to annual catch limits (ACLs) for Atlantic sharks in the HMS management unit. NMFS announced the availability of a scoping document for Amendment 14 to the 2006 Consolidated HMS FMP (84 FR 23014; May 21, 2019). In that scoping document, NMFS has also begun the process of re-examining how to establish these ACLs, including an examination of how to establish the acceptable biological catch (ABC) and account for uncertainty arising from the stock assessment and the impacts to the management measures.

Comment 7: NMFS received a comment supporting the prohibition of all commercial shark fishing.

Response: This comment is outside the scope of this rulemaking because the purpose of this rulemaking is to adjust quotas for the 2020 shark seasons based on over- and underharvests from the previous years and set opening dates and commercial retention limits for the 2020 shark season. Management of the Atlantic shark fisheries is based on the best available science to achieve optimum yield while also rebuilding overfished shark stocks and preventing overfishing. The final rule does not reanalyze the overall management measures for sharks, which have been analyzed in the 2006 Consolidated HMS FMP and its amendments. NMFS is considering further shark management measures, including options related to the implementation of relatively new Magnuson-Stevens Act NS1 guidelines as they relate to ACLs for Atlantic sharks in the HMS management unit, in Amendment 14 to the 2006 Consolidated HMS FMP.

Changes From the Proposed Rule

As noted above, after considering public comment and updated landings data, NMFS made three changes from the proposed rule. Specifically, NMFS changed the retention limit for directed shark limited access permit holders at the start of the commercial shark fishing year for the aggregated LCS and hammerhead shark management groups in the Atlantic from 25 LCS other than sandbar sharks per vessel per trip to 36 LCS other than sandbar sharks per vessel per trip. NMFS is changing the proposed percentage of quota harvested at which to consider adjusting the retention limit from approximately 20 percent to 35 percent if the quota is landed too quickly. NMFS noted in the proposed rule that retention limits and the quota linkage threshold might change in response to public comment. These changes are within the established range of retention limits provided at § 635.24(a)(2) and consistent with the limits established in recent years at the start of the season. NMFS expects that a retention limit of 36 LCS other than sandbar sharks per vessel per trip with a 35 percent of quota harvested at which to consider adjusting the retention limit will provide equitable fishing opportunities throughout the region, to the extent practicable, and retains its discretion to make inseason adjustments to retention limits, in accordance with existing regulations and in furtherance of the goals and objectives of the 2006 Consolidated HMS FMP and its amendments.

Additionally, based on an underharvest calculation error, NMFS changed the final blacktip shark quota in both Gulf of Mexico sub-regions. In the proposed rule, NMFS calculated the underharvest for blacktip sharks within the Gulf of Mexico region as 141.8 mt dw, which was 50 percent of the 2019 adjusted annual quota. However, pursuant to § 635.27(b)(2)(ii), NMFS may apply up to 50 percent of the base annual quota (128.3 mt dw) to the 2020 quota. Any underharvest would be divided between the two sub-regions, based on the percentages that are allocated to each sub-region, which are set forth in § 635.27(b)(1)(ii)(C). Accordingly, the western Gulf of Mexico sub-regional baseline quota is being increased by 115.7 mt dw (255,131 lb dw), which is a reduction of 12.2 mt dw from the proposed rule. Similarly, the eastern Gulf of Mexico sub-regional baseline quota is being increased by 12.6 mt dw (27,719 lb dw), which is a reduction of 1.3 mt dw from the proposed rule (Table 1). Thus, the 2020 adjusted annual quota in western sub-regional Gulf of Mexico blacktip shark commercial quota is 347.2 mt dw (765,392 lb dw), and the eastern sub-regional Gulf of Mexico blacktip shark commercial quota is 37.7 mt dw (83,158 lb dw).

2020 Annual Quotas

This final rule adjusts the 2020 commercial quotas due to overharvests and/or underharvests in 2019 and previous fishing years, based on landings data received by October 18, 2019. The 2020 annual quotas by species and management group are summarized in Table 1. At this time, NMFS anticipates that landings in dealer reports that are received by NMFS after October 18, 2019, will be accounted for by adjusting the 2021 quotas, as appropriate, although such landings could also be accounted for in the same year. A description of the quota calculations is provided in the proposed rule and is not repeated here. Any changes are described in the “Changes from the Proposed Rule” section.

Table 1—2020 Final Adjusted Quotas for the Atlantic Shark Management Groups
Region or sub-region | Management group | 2019 annual quota | Preliminary 2019 landings ¹ | Adjustments ² | 2020 Base annual quota | 2020 Final annual quota
|  | (A) | (B) | (C) | (D) | (D+C)
Western Gulf of Mexico | Blacktip Sharks. ³ | 250.8 mt dw (552,919 lb dw) ⁴ | 67.4 mt dw (148,491 lb dw) | 115.7 mt dw (255,131 lb dw) | 231.5 mt dw (510,261 lb dw) | 347.2 mt dw (765,392 lb dw)
| Aggregated Large Coastal Sharks | 22.0 mt dw (48,501 lb dw) ⁴ | 13.7 mt dw (30,282 lb dw) |  | 72.0 mt dw (158,724 lb dw) | 72.0 mt dw (158,724 lb dw)
| Hammerhead Sharks | 3.9 mt dw (8,598 lb dw) ⁴ | <1.0 mt dw (<2,200 lb dw) |  | 11.9 mt dw (26,301 lb dw) | 11.9 mt dw (26,301 lb dw)
Eastern Gulf of Mexico | Blacktip Sharks.³ | 32.7 mt dw (72,091 lb dw) ⁴ | 7.5 mt dw (16,461 lb dw) | 12.6 mt dw (27,719 lb dw) | 25.1 mt dw (55,439 lb dw) | 37.7 mt dw (83,158 lb dw)
| Aggregated Large Coastal Sharks | 135.5 mt dw (298,726 lb dw)⁴ | 66.0 mt dw (145,543 lb dw) |  | 85.5 mt dw (188,593 lb dw) | 85.5 mt dw (188,593 lb dw)
| Hammerhead Sharks | 21.4 mt dw (47,178 lb dw)⁴ | 10.6 mt dw (23,283 lb dw) |  | 13.4 mt dw (29,421 lb dw) | 13.4 mt dw (29,421 lb dw)
Gulf of Mexico | Non-Blacknose Small Coastal Sharks | 112.6 mt dw (248,215 lb dw) | 48.9 mt dw (107,884 lb dw) |  | 112.6 mt dw (248,215 lb dw) | 112.6 mt dw (248,215 lb dw)
| Smoothhound Sharks | 504.6 mt dw (1,112,441 lb dw) | <5.0 mt dw (<11,000 lb dw) | 168.2 mt dw (370,814 lb dw) | 336.4 mt dw (741,627 lb dw) | 504.6 mt dw (1,112,441 lb dw)
Atlantic | Aggregated Large Coastal Sharks | 168.9 mt dw (372,552 lb dw) | 45.2 mt dw (99,737 lb dw) |  | 168.9 mt dw (372,552 lb dw) | 168.9 mt dw (372,552 lb dw)
| Hammerhead Sharks | 27.1 mt dw (59,736 lb dw) | 10.3 mt dw (22,655 lb dw) |  | 27.1 mt dw (59,736 lb dw) | 27.1 mt dw (59,736 lb dw)
| Non-Blacknose Small Coastal Sharks | 264.1 mt dw (582,333 lb dw) | 88.1 mt dw (194,249 lb dw) |  | 264.1 mt dw (582,333 lb dw) | 264.1 mt dw (582,333 lb dw)
| Blacknose Sharks (South of 34° N lat. only) | 17.2 mt dw (37,921 lb dw) | 8.0 mt dw (17,637 lb dw) |  | 17.2 mt dw (37,921 lb dw) | 17.2 mt dw (37,921 lb dw)
| Smoothhound Sharks | 1,802.6 mt dw (3,973,902 lb dw) | 329.9 mt dw (727,268 lb dw) | 600.9 mt dw (1,324,634 lb dw) | 1,201.7 mt dw (2,649,268 lb dw) | 1,802.6 mt dw (3,971,587 lb dw)
No regional quotas | Non-Sandbar LCS Research | 50.0 mt dw (110,230 lb dw) | 13.9 mt dw (30,596 lb dw) |  | 50.0 mt dw (110,230 lb dw) | 50.0 mt dw (110,230 lb dw)
| Sandbar Shark Research | 90.7 mt dw (199,943 lb dw) | 55.7 mt dw (122,715 lb dw) |  | 90.7 mt dw (199,943 lb dw) | 90.7 mt dw (199,943 lb dw)
| Blue Sharks. | 273.0 mt dw (601,856 lb dw) | 0 mt dw (0 lb dw) |  | 273.0 mt dw (601,856 lb dw) | 273.0 mt dw (601,856 lb dw)
| Porbeagle Sharks | 1.7 mt dw (3,748 lb dw) | <0.5 mt dw (<1,000 lb dw) |  | 1.7 mt dw (3,748 lb dw) | 1.7 mt dw (3,748 lb dw)
| Pelagic Sharks Other Than Porbeagle or Blue | 488.0 mt dw (1,075,856 lb dw) | 31.7 mt dw (69,836 lb dw) |  | 488.0 mt dw (1,075,856 lb dw) | 488.0 mt dw (1,075,856 lb dw)
¹ Landings are from January 1, 2019, through October 18, 2019, and are subject to change.
² Underharvest adjustments can only be applied to stocks or management groups that are not overfished and have no overfishing occurring. Also, the underharvest adjustments cannot exceed 50 percent of the base annual quota.
³ This adjustment accounts for underharvest in 2019. As explained above, NMFS is adjusting the increase of the overall Gulf of Mexico blacktip shark quota by 128.3 mt dw (282,850 lb dw). Since any underharvest would be divided based on the sub-regional quota percentage split, the western Gulf of Mexico blacktip shark quota would be increased by 115.7 mt dw, or 90.2 percent of the underharvest, while the eastern Gulf of Mexico blacktip shark quota would be increased by 12.6 mt dw, or 9.8 percent of the underharvest.
⁴ NMFS transferred 5 mt dw of the blacktip shark quota, 50 mt dw of the aggregated LCS quota, and 8 mt dw of the hammerhead shark quota from the western Gulf of Mexico sub-region to the eastern Gulf of Mexico sub-region on September 12, 2019 (84 FR 48791; September 17, 2019).

2020 Atlantic Commercial Shark Fishing Year

NMFS considered the seven “opening commercial fishing season” criteria listed in § 635.27(b)(3), as described in the proposed rule (84 FR 49236; September 19, 2019). These criteria include, among other things: The available annual quotas based on any over-and/or underharvests experienced during the previous seasons; the estimated season length based on available quotas and catch rates from previous years; the length of the season in the previous years and whether fishermen were able to participate in the fishery in those years; and the effects of catch rates in one part of a region precluding vessels in another part of that region from having a reasonable opportunity to harvest a portion of the different species and/or management quotas. Application of the criteria discussed in the proposed rule is not repeated here.

Regarding the LCS retention limit, as shown in Table 2, directed shark limited access permit holders fishing on the Gulf of Mexico blacktip shark, aggregated LCS, and hammerhead shark management groups will start the commercial fishing year with a limit of 45 LCS other than sandbar sharks per vessel per trip. Directed shark limited access permits fishing on the Atlantic aggregated LCS and hammerhead shark management groups will start the commercial fishing year with a limit of 36 LCS other than sandbar sharks per vessel per trip. These retention limits could be changed throughout the year based on consideration of the inseason trip limit adjustment criteria at § 635.24(a)(8).

Specifically, in the Atlantic region, NMFS will closely monitor the quota at the beginning of the year. If it appears that the quota is being harvested too quickly to allow fishermen throughout the entire region the opportunity to fish (e.g., if approximately 35 percent of the quota is caught at the beginning of the year), NMFS will consider reducing the commercial retention limit, potentially to 3 LCS other than sandbar sharks per vessel per trip. Given the geographic distribution of the sharks at this time of year (i.e., they head north before moving south again later in the year), the retention limit would be adjusted to ensure there is quota available later in the year (see the criteria at § 635.24(a)(8)(i), (ii), (v), and (vi)). Then, based on the prior years' fishing activity, and to allow more consistent fishing opportunities later in the year, NMFS may consider raising the commercial retention limit later in the year. Any future increase or decrease in a retention limit would depend on a review of the inseason trip limit adjustment criteria at § 635.24(a)(8).

All of the shark management groups will remain open until December 31, 2020, or until NMFS determines that the landings for any shark management group have reached, or are projected to reach, 80 percent of the available overall, regional, and/or sub-regional quota, if the fishery's landings are not projected to reach 100 percent of the applicable quota before the end of the season, or when the quota-linked management group is closed. For the blacktip shark management group, regulations at § 635.28(b)(5)(i) through (v) authorize NMFS to close the management group before landings reach or are expected to reach 80 percent of the available overall, regional, and/or sub-regional quota after considering the following criteria and other relevant factors: Season length based on available sub-regional quota and average sub-regional catch rates; variability in regional and/or sub-regional seasonal distribution, abundance, and migratory patterns; effects on accomplishing the objectives of the 2006 Consolidated Atlantic HMS FMP and its amendments; amount of remaining shark quotas in the relevant sub-region; and regional and/or sub-regional catch rates of the relevant shark species or management groups. Additionally, NMFS has previously established non-linked and linked quotas. Linked quotas are explicitly designed to concurrently close multiple shark management groups that are caught together to prevent incidental catch mortality from exceeding the total allowable catch. The linked and non-linked quotas are shown in Table 2. If NMFS determines that a shark species or management group must be closed, then NMFS will publish a notice in the Federal Register of closure for that shark species, shark management group, region, and/or sub-region that will be effective no fewer than four days from the date of filing (§ 635.28(b)(2) and (3)). From the effective date and time of the closure until NMFS announces, via the publication of a notice in the Federal Register, that additional quota is available and the season is reopened, the fisheries for the shark species or management group are closed, even across fishing years.

Table 2—Quota Linkages, Opening Dates, and Commercial Retention Limit by Regional or Sub-Regional Shark Management Group
Region or sub-region | Management group | Quota linkages | Opening dates | Commercial retention limits for directed shark limited access permit holders (inseason adjustments are available)
Eastern Gulf of Mexico | Blacktip Sharks | Not Linked | January 1, 2020 | 45 LCS other than sandbar sharks per vessel per trip.
| Aggregated Large Coastal Sharks | Linked |  |
| Hammerhead Sharks |  |  |
Western Gulf of Mexico | Blacktip Sharks | Not Linked | January 1, 2020 | 45 LCS other than sandbar sharks per vessel per trip.
| Aggregated Large Coastal Sharks | Linked |  |
| Hammerhead Sharks |  |  |
Gulf of Mexico | Non-Blacknose Small Coastal Sharks | Not Linked | January 1, 2020 | N/A.
| Smoothhound Sharks | Not Linked | January 1, 2020 | N/A.
Atlantic | Aggregated Large Coastal Sharks | Linked | January 1, 2020 | 36 LCS other than sandbar sharks per vessel per trip.
| Hammerhead Sharks |  |  | If quota is landed quickly (e.g., if approximately 35 percent of the quota is caught at the beginning of the year), NMFS anticipates considering an inseason reduction, and later considering an inseason increase.
| Non-Blacknose Small Coastal Sharks | Linked (South of 34° N lat. only) | January 1, 2020 | N/A.
| Blacknose Sharks (South of 34° N lat. only) |  |  | 8 blacknose sharks per vessel per trip (applies to directed and incidental permit holders).
| Smoothhound Sharks | Not Linked | January 1, 2020 | N/A.
No regional quotas | Non-Sandbar LCS Research | Linked | January 1, 2020 | N/A.
| Sandbar Shark Research |  |  |
| Blue Sharks | Not Linked | January 1, 2020 | N/A.
| Porbeagle Sharks |  |  |
| Pelagic Sharks Other Than Porbeagle or Blue |  |  |

Classification

The NMFS Assistant Administrator has determined that the final rule is consistent with the 2006 Consolidated HMS FMP and its amendments, other provisions of the Magnuson-Stevens Act, and other applicable laws.

Pursuant to 5 U.S.C. 553(d)(3), the NMFS Assistant Administrator has determined that there is good cause to waive the 30-day delay in effective date for the adjusted quotas and opening dates for the pelagic shark, shark research, blacknose shark, non-blacknose small coastal shark, and non-sandbar large coastal shark fisheries in the Atlantic and Gulf of Mexico regions, because such a delay is contrary to the public interest.

A delay in effectiveness of this rule would cause negative economic impacts on fishermen and diminish the opportunity for the collection of scientific data, which is critical to properly managing the fisheries because needed information would not be available for stock assessments, resulting in negative ecological impacts on the fishery resource.

A delay in the effectiveness of the quotas in this rule would result in the closure of the pelagic shark fishery until 30 days after the publication date of this rule. Most pelagic shark species are captured incidentally in swordfish and tuna pelagic longline fisheries that will be open in early January. If the quotas in this rule are not made effective as close to January 1, 2020, as possible, fishermen will have to discard, dead or alive, any pelagic sharks that are caught, while quota is technically available to be used for their retention.

Regarding the shark research fishery, NMFS selects a small number of fishermen to participate in the shark research fishery each year for the purpose of providing NMFS with biological and catch data to better manage the Atlantic shark fisheries. All the trips and catches in this fishery are monitored with 100 percent observer coverage. Delaying the opening of the shark research fishery would prevent NMFS from maintaining the monthly time-series of wintertime abundance for shark species or collecting vital biological and regional data during this time of year. Not conducting the necessary research trips could limit NMFS' ability to properly manage the shark fisheries because needed information would not be available for stock assessments, which would be contrary to the public interest.

Regarding the blacknose shark, non-blacknose small coastal shark, and smoothhound shark fisheries, these fisheries have both a directed component, where fishermen target these shark species, and an incidental component, where the fish are caught and, when the fishery is open, landed by fishermen targeting other species such as Spanish mackerel and bluefish. The incidental fishery catches small coastal and smoothhound sharks throughout the year. Delaying this action for 30 days would force all fishermen to discard, dead or alive, any small coastal and smoothhound sharks that are caught before this rule becomes effective. Opening the fishery as close to January 1, 2020, as possible ensures that any mortality associated with landings is counted against the commercial quota in real-time. Additionally, a month-long delay in opening the small coastal shark and smoothhound shark fisheries would occur during the time period when fishermen typically target these shark species. Therefore, fishermen would experience negative economic impacts that would continue until the small coastal and smoothhound shark fisheries were opened. Thus, delaying the opening of the small coastal and smoothhound shark fisheries would undermine the intent of the rule and is contrary to the public interest.

Regarding the non-sandbar large coastal shark fishery in the Atlantic and Gulf of Mexico region, NMFS received public comments in support of a January 1 opening date. This would allow south Atlantic fishermen to have a winter fishery and to potentially get a better price per pound, given the geographic distribution of the sharks at this time of year. However, delaying the opening of the non-sandbar large coastal shark fishery in the Atlantic and Gulf of Mexico region for an additional 30 days would have negative economic impacts on fishermen because they would not be able to fish for that period. Additionally, many of the primary species targeted in the non-sandbar large coastal shark fisheries are locally available in the southern portion of the Atlantic region in January and a 30-day delay would cause fishermen to miss out entirely on fishing opportunities, and the associated revenue. Therefore, delaying this action for 30 days is contrary to the public interest.

For the reasons described above, the Assistant Administrator finds good cause to waive the 30-day delay in effectiveness of the quotas and opening dates for the pelagic shark, shark research, blacknose shark, non-blacknose small coastal shark, smoothhound shark, and non-sandbar large coastal shark fisheries in the Atlantic and Gulf of Mexico regions.

This final rule is exempt from review under Executive Order 12866.

In compliance with section 604 of the Regulatory Flexibility Act (RFA), NMFS prepared a Final Regulatory Flexibility Analysis (FRFA) for this final rule. The FRFA analyzes the anticipated economic impacts of the final actions and any significant economic impacts on small entities. The FRFA is below.

Section 604(a)(1) of the RFA requires an explanation of the purpose of the rulemaking. The purpose of this final rule is, consistent with the Magnuson-Stevens Act and the 2006 Consolidated HMS FMP and its amendments, to establish the 2020 Atlantic commercial shark adjusted fishing quotas, retention limits, and fishing seasons. Without this rule, the Atlantic commercial shark fisheries would close on December 31, 2019, and would not reopen until appropriate action was taken. This final rule will be implemented according to the regulations implementing the 2006 Consolidated HMS FMP and its amendments. Thus, NMFS expects few, if any, economic impacts to fishermen other than those already analyzed in the 2006 Consolidated HMS FMP and its amendments. While there may be some direct negative economic impacts associated with the opening dates for fishermen in certain northern Atlantic areas, there could also be positive effects for other fishermen in the south Atlantic region. The opening dates were chosen to allow for an equitable distribution of the available quotas among all fishermen across regions and states, to the extent practicable.

Section 604(a)(2) of the RFA requires NMFS to summarize significant issues raised by the public in response to the Initial Regulatory Flexibility Analysis (IRFA), provide a summary of NMFS' assessment of such issues, and provide a statement of any changes made as a result of the comments. The IRFA was completed as part of the proposed rule for the 2020 Atlantic Commercial Shark Season Specifications. NMFS did not receive any comments specific to the IRFA.

Section 604(a)(3) of the RFA requires NMFS to the respond to any comments filed by the Chief Counsel for Advocacy of the Small Business Administration in response to the proposed rule and provide a detailed statement of any change made to the proposed rule as a result of the comments. NMFS did not receive any comments from the Chief Counsel for Advocacy of the Small Business Administration on the proposed rule.

Section 604(a)(4) of the RFA requires NMFS to provide an estimate of the number of small entities to which the rule would apply. The Small Business Administration (SBA) has established size criteria for all major industry sectors in the United States, including fish harvesters. Provision is made under SBA's regulations for an agency to develop its own industry-specific size standards after consultation with Advocacy and an opportunity for public comment (see 13 CFR 121.903(c)). Under this provision, NMFS may establish size standards that differ from those established by the SBA Office of Size Standards, but only for use by NMFS and only for the purpose of conducting an analysis of economic effects in fulfillment of the agency's obligations under the RFA. To utilize this provision, NMFS must publish such size standards in the Federal Register, which NMFS did on December 29, 2015 (80 FR 81194; 50 CFR 200.2). In that final rule effective on July 1, 2016, NMFS established a small business size standard of $11 million in annual gross receipts for all businesses in the commercial fishing industry (NAICS 11411) for RFA compliance purposes. NMFS considers all HMS permit holders to be small entities because they had average annual receipts of less than $11 million for commercial fishing.

As of October 2019, the final rule would apply to the approximately 219 directed commercial shark permit holders, 263 incidental commercial shark permit holders, 162 smoothhound shark permit holders, and 103 commercial shark dealers. Not all permit holders are active in the fishery in any given year. Active directed commercial shark permit holders are defined as those with valid permits that landed one shark based on HMS electronic dealer reports. Of the 482 directed and incidental commercial shark permit holders, only 12 permit holders landed sharks in the Gulf of Mexico region and only 70 landed sharks in the Atlantic region. Of the 162 smoothhound shark permit holders, only 63 permit holders landed smoothhound sharks in the Atlantic region and none landed smoothhound sharks in the Gulf of Mexico region. NMFS has determined that the final rule would not likely affect any small governmental jurisdictions.

Section 604(a)(5) of the RFA requires NMFS to describe the projected reporting, recordkeeping, and other compliance requirements of the final rule, including an estimate of the classes of small entities which would be subject to the requirements of the report or record. None of the actions in this final rule would result in additional reporting, recordkeeping, or compliance requirements beyond those already analyzed in the 2006 Consolidated HMS FMP and its amendments.

Section 604(a)(6) of the RFA requires NMFS to describe the steps taken to minimize the economic impact on small entities, consistent with the stated objectives of applicable statutes. Additionally, the RFA (5 U.S.C. 603(c)(1)-(4)) lists four general categories of significant alternatives that would accomplish the stated objectives of applicable statutes and minimize any significant economic impact of the rule on small entities. These categories of alternatives are: (1) Establishment of differing compliance or reporting requirements or timetables that take into account the resources available to small entities; (2) clarification, consolidation, or simplification of compliance and reporting requirements under the rule for such small entities; (3) use of performance rather than design standards; and (4) exemptions from coverage of the rule, or any part thereof, for small entities.

In order to meet the objectives of this rule, consistent with the Magnuson-Stevens Act, NMFS cannot exempt small entities or change the reporting requirements only for small entities because all the entities affected are small entities. Thus, there are no alternatives discussed that fall under the first, second, and fourth categories described above. NMFS does not know of any performance or design standards that would satisfy the aforementioned objectives of this rulemaking while, concurrently, complying with the Magnuson-Stevens Act; therefore, there are no alternatives considered under the third category.

This rulemaking does not establish new management measures to be implemented, but rather implements previously adopted and analyzed measures as adjustments within a range of previously-authorized activities, as specified in the 2006 Consolidated HMS FMP and its amendments and the Environmental Assessment (EA) for the 2011 shark quota specifications rule (75 FR 76302; December 8, 2010). Thus, in this rulemaking, NMFS adjusted the baseline quotas established and analyzed in the 2006 Consolidated HMS FMP and its amendments by subtracting the underharvest or adding the overharvest, as specified and allowable in existing regulations. Under current regulations (§ 635.27(b)(2)), all shark fisheries close on December 31 of each year, or when NMFS determines that the landings for any shark management group has reached, or is projected to reach, 80 percent of the available overall, regional, and/or sub-regional quota if the fishery's landings are not projected to reach 100 percent of the applicable quota before the end of the season, or when the quota-linked management group is closed. The fisheries do not open until NMFS takes action, such as this rulemaking, to re-open the fisheries. Thus, not implementing these management measures would negatively affect shark fishermen and related small entities, such as dealers, and also would not provide management flexibility in furtherance of equitable fishing opportunities, to the extent practicable, for commercial shark fishermen in all regions and areas.

Based on the 2018 ex-vessel meat and fin prices (Table 3), fully harvesting the unadjusted 2020 Atlantic shark commercial base quotas could result in total fleet revenues of $8,775,599. For the Gulf of Mexico blacktip shark management group, NMFS will increase the baseline sub-regional quotas due to the underharvests in 2019. The increase for the western Gulf of Mexico blacktip shark management group could result in a $210,580 gain in total revenues for fishermen in that sub-region, while the increase for the eastern Gulf of Mexico blacktip shark management group could result in a $37,570 gain in total revenues for fishermen in that sub-region. For the Gulf of Mexico and Atlantic smoothhound shark management groups, NMFS will increase the baseline quotas due to the underharvest in 2019. This would cause a potential gain in revenue of $262,788 for the fleet in the Gulf of Mexico region and a potential gain in revenue of $1,057,482 for the fleet in the Atlantic region.

All of these changes in gross revenues are similar to the changes in gross revenues analyzed in the 2006 Consolidated HMS FMP and its amendments. The FRFAs for those amendments concluded that the economic impacts on these small entities are expected to be minimal. In the 2006 Consolidated HMS FMP and its amendments and the EA for the 2011 shark quota specifications rule, NMFS stated it would be conducting annual rulemakings and considering the potential economic impacts of adjusting the quotas for under- and overharvests at that time.

Table 3—Average Ex-Vessel Prices per lb dw for Each Shark Management Group, 2018
Region | Species | Average ex-vessel meat price | Average ex-vessel fin price
Western Gulf of Mexico | Blacktip Shark | $0.53 | $10.94
| Aggregated LCS | 0.67 | 11.61
| Hammerhead Shark | 0.51 | 11.12
Eastern Gulf of Mexico | Blacktip Shark | 1.06 | 9.54
| Aggregated LCS | 0.59 | 11.93
| Hammerhead Shark | 0.40 | 13.20
Gulf of Mexico | Non-Blacknose SCS | 0.54 | 7.00
| Smoothhound Shark | 0.65 |
Atlantic | Aggregated LCS | 0.98 | 11.06
| Hammerhead Shark | 0.42 | 6.66
| Non-Blacknose SCS | 0.99 | 7.67
| Blacknose Shark | 1.21 |
| Smoothhound Shark | 0.74 | 1.62
No Region | Shark Research Fishery (Aggregated LCS) | 0.81 | 11.61
| Shark Research Fishery (Sandbar only) | 0.61 | 11.00
| Blue shark | 0.45 | 3.01
| Porbeagle shark | 1.18 | 3.01
| Other Pelagic sharks | 1.46 | 3.01

For this final rule, NMFS reviewed the “opening commercial fishing season” criteria at § 635.27(b)(3)(i) through (vii) to determine when opening each fishery will provide equitable opportunities for fishermen, to the extent practicable, while also considering the ecological needs of the different species. The 2019 fishing year and previous years' over- and/or underharvests were examined for the different species/complexes to determine the effects of the 2020 final quotas on fishermen across regional fishing areas. NMFS examined season lengths and previous catch rates to ensure equitable fishing opportunities for fishermen. Lastly, NMFS examined the seasonal variation of the different species/complexes and the effects on fishing opportunities. In addition to these criteria, NMFS also considered updated landings data and public comment on the proposed rule before arriving at the final opening dates for the 2020 Atlantic shark management groups. For the 2020 fishing year, NMFS is opening the shark management groups on January 1, 2020. The direct and indirect economic impacts will be neutral on a short- and long-term basis for the Gulf of Mexico blacktip shark, Gulf of Mexico aggregated LCS, Gulf of Mexico hammerhead shark, Gulf of Mexico non-blacknose shark SCS, Gulf of Mexico and Atlantic smoothhound shark, Atlantic non-blacknose shark SCS, Atlantic blacknose shark, sandbar shark, blue shark, porbeagle shark, and pelagic shark (other than porbeagle or blue sharks) management groups, because NMFS did not change the opening dates of these fisheries from the status quo of January 1.

Opening the aggregated LCS and hammerhead shark management groups in the Atlantic region on January 1 will result in short-term, direct, moderate, beneficial economic impacts, as fishermen and dealers in the southern portion of the Atlantic region will be able to fish for and sell aggregated LCS and hammerhead sharks starting in January. The opening date finalized in this rule for the Atlantic region has been the same or similar to those since 2016, however, the retention limit would be different from this past year and similar to the one since 2016.

Based on past public comments, some Atlantic fishermen in the southern and northern parts of the region prefer a January 1 opening for the fishery as long as the majority of the quota is available later in the year. Along with the inseason retention limit adjustment criteria in § 635.24(a)(8), NMFS monitors the quota through the HMS electronic reporting system on a real-time basis. This allows NMFS the flexibility to further provide equitable fishing opportunities for fishermen across all regions, to the extent practicable. The direct impacts to shark fishermen in the Atlantic region of reducing the retention limit depend on the needed reduction in the retention limit and the timing of such a reduction. Therefore, such a reduction in the retention limit for directed shark limited access permit holders is only anticipated to have minor adverse direct economic impacts to fishermen in the short-term; long-term impacts are not anticipated as these reductions would not be permanent.

In the northern portion of the Atlantic region, a January 1 opening for the aggregated LCS and hammerhead shark management groups, with inseason trip limit adjustments to ensure quota is available later in the season, will have direct, minor, beneficial economic impacts in the short-term for fishermen as they will potentially have access to the aggregated LCS and hammerhead shark quotas earlier than in past seasons. Fishermen in this area have stated that, depending on the weather, some aggregated LCS species might be available to retain in January. Thus, fishermen will be able to target or retain aggregated LCS while targeting non-blacknose SCS. There will be indirect, minor, beneficial economic impacts in the short- and long-term for shark dealers and other entities that deal with shark products in this region as they will also have access to aggregated LCS products earlier than in past seasons. Thus, opening the aggregated LCS and hammerhead shark management groups in January and using inseason trip limit adjustments to ensure the fishery is open later in the year in 2020 will cause beneficial cumulative economic impacts, because it allows for a more equitable distribution of the quotas among constituents in this region, consistent with the 2006 Consolidated HMS FMP and its amendments.

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of this rulemaking process, NMFS has prepared a listserv summarizing fishery information and regulations for Atlantic shark fisheries for 2020. This listserv also serves as the small entity compliance guide. Copies of the compliance guide are available from NMFS (see ADDRESSES).

Authority: 16 U.S.C. 971 et seq.; 16 U.S.C. 1801 et seq.

Dated: November 25, 2019.
Samuel D. Rauch III,
Deputy Assistant Administrator for Regulatory Programs, National Marine Fisheries Service.

[FR Doc. 2019-25916 Filed 11-27-19; 8:45 am]

BILLING CODE 3510-22-P